DEPARTMENT OF STATE

[Public Notice 7175]

Notice of Public Meeting and Opportunity To Submit Written Comments Concerning the Administration's Review of the U.S. National Contact Point for the OECD Guidelines for Multinational Enterprises

SUMMARY: The Department of State, which serves the function of the U.S. National Contact Point (NCP) for the OECD Guidelines for Multinational Enterprises (MNE), is soliciting written comments and will hold a public meeting concerning the Administration's review of the U.S. NCP. The key question is whether the current structure and practices of the U.S. NCP effectively achieve the objectives of the OECD Guidelines for MNEs or whether there are changes that should be made. NCPs operate according to OECD procedural guidance.

DATES: The public meeting will be held on Tuesday, November 2, 2010, from 9 a.m. to 12 noon (or until business is concluded) in the George Marshall Auditorium of the Harry S. Truman Building of the Department of State. Representatives from the Department of State's Bureau of Economic, Energy, and Business Affairs will chair the meeting. The deadline for registration to attend the meeting is Friday, October 22 (details below). To provide for efficient conduct of the meeting, persons wishing to speak are requested to indicate this upon registering and to provide a copy of their prepared remarks or a summary prior to the meeting. Speakers will be asked to limit their remarks to five minutes.

Input may also be provided in writing. Written comments submitted under this notice are due by 5 p.m. on Friday, November 5 and should be sent by e-mail to input@state.gov or, if needed, by fax to (202) 647-0320. Please note that all comments submitted under this notice will be posted on http://www.regulations.gov and will be accessible to the general public.

ADDRESSES: To gain admission to the Department of State for the meeting, please register by 5 p.m. on Friday, October 22 with the following information, which will be used to expedite admission to the Truman Building:

• Full name.

• Date of birth.

• Either driver's license state and number or passport number.

Personal data is requested pursuant to Public Law 99-399 (Omnibus Diplomatic Security and Antiterrorism Act of 1986), as amended; Public Law 107-56 (USA PATRIOT Act); and Executive Order 13356. The purpose of the collection is to validate the identity of individuals who enter Department facilities. The data will be entered into the Visitor Access Control System (VACS-D) database. Please see the Privacy Impact Assessment for VACS-D at http://www.state.gov/documents/organization/100305.pdf for additional information.

We also request that registration include the organization, agency, or company affiliation of each individual (if applicable) and any requests for reasonable accommodation. Requests made after October 22 will be considered, but might not be possible to fulfill. To support full and effective participation of persons with disabilities, the George Marshall Auditorium is equipped with wheelchair-accessible ramps. Registration information should be sent by e-mail to input@state.gov or by fax to (202) 647-0320. The Truman Building is located at 2201 C Street, NW., Washington, DC 20520. Those attending the November 2 public meeting must enter the State Department through the 21st Street Entrance (near the corner of Virginia Avenue and 21st Street) and allow sufficient time to clear security and badging.

FOR FURTHER INFORMATION CONTACT: Janet Shannon, State Department U.S. NCP Review Coordinator, at input@state.gov or (202) 647-9453.

SUPPLEMENTARY INFORMATION: The Organization for Economic Cooperation and Development (OECD) Guidelines for Multinational Enterprises (“the Guidelines”) constitute a set of voluntary recommendations to multinational enterprises on general principles and policies that OECD adhering Governments agree constitute responsible business conduct, including separate chapters on information disclosure, employment and industrial relations, environment, combating bribery, consumer interests, science and technology, competition, and taxation.

OECD members and other governments that have adhered to the OECD Declaration on International Investment and Multinational Enterprises, which includes the Guidelines, are obligated to establish a national contact point for the purpose of promoting the Guidelines among multinational enterprises operating in and from its territories, serving as a clearing house for inquiries and comments about implementation of the Guidelines, and discussing with concerned parties matters covered by the Guidelines.

The OECD established in 2000 procedural guidance to assist NCPs in meeting their responsibilities. This guidance is set out in the “Decision of the Council on the OECD Guidelines for Multinational Enterprises.” For this and additional information about the role and function of the U.S. NCP, please see the State Department Web site (http://www.state.gov/usncp/) and for more general information on the role of NCPs, the OECD Web site (http://www.oecd.org/document/60/0,3343,_2649_34889_1933116_1_1_1_1,00.html).

Dated: September 10, 2010.
Gregory N. Hicks,
Acting Director, Office of Investment Affairs, Department of State.

[FR Doc. 2010-23698 Filed 9-21-10; 8:45 am]

BILLING CODE 4710-07-P